DEPARTMENT OF COMMERCE

National Oceanic and Atmospheric Administration

50 CFR Part 679

[Docket No. 191126-0093]

RIN 0648-XH080

Fisheries of the Exclusive Economic Zone Off Alaska; Bering Sea and Aleutian Islands; Proposed 2020 and 2021 Harvest Specifications for Groundfish

AGENCY: National Marine Fisheries Service (NMFS), National Oceanic and Atmospheric Administration (NOAA), Commerce.

ACTION: Proposed rule; harvest specifications and request for comments.

SUMMARY: NMFS proposes 2020 and 2021 harvest specifications, apportionments, and prohibited species catch allowances for the groundfish fisheries of the Bering Sea and Aleutian Islands (BSAI) management area. This action is necessary to establish harvest limits for groundfish during the 2020 and 2021 fishing years and to accomplish the goals and objectives of the Fishery Management Plan for Groundfish of the Bering Sea and Aleutian Islands Management Area (FMP). The 2020 harvest specifications supersede those previously set in the final 2019 and 2020 harvest specifications, and the 2021 harvest specifications will be superseded in early 2021 when the final 2021 and 2022 harvest specifications are published. The intended effect of this action is to conserve and manage the groundfish resources in the BSAI in accordance with the Magnuson-Stevens Fishery Conservation and Management Act.

DATES: Comments must be received by January 2, 2020.

ADDRESSES: Submit your comments, identified by NOAA-NMFS-2019-0074, by either of the following methods:

• Federal e-Rulemaking Portal: Go to www.regulations.gov/#!docketDetail;D=NOAA-NMFS-2019-0074, click the “Comment Now!” icon, complete the required fields, and enter or attach your comments.

• Mail: Submit written comments to Glenn Merrill, Assistant Regional Administrator, Sustainable Fisheries Division, Alaska Region NMFS, Attn: Records Office. Mail comments to P.O. Box 21668, Juneau, AK 99802-1668.

Instructions: NMFS may not consider comments if they are sent by any other method, to any other address or individual, or received after the comment period ends. All comments received are a part of the public record, and NMFS will post the comments for public viewing on www.regulations.gov without change. All personal identifying information (e.g., name, address), confidential business information, or otherwise sensitive information submitted voluntarily by the sender is publicly accessible. NMFS will accept anonymous comments (enter “N/A” in the required fields if you wish to remain anonymous).

Electronic copies of the Alaska Groundfish Harvest Specifications Final Environmental Impact Statement (Final EIS), Record of Decision (ROD) for the Final EIS, the annual Supplementary Information Reports (SIRs) to the Final EIS, and the Initial Regulatory Flexibility Analysis (IRFA) prepared for this action are available from https://www.regulations.gov. An updated 2020 SIR for the final 2020 and 2021 harvest specifications will be available from the same source. The final 2018 Stock Assessment and Fishery Evaluation (SAFE) report for the groundfish resources of the BSAI, dated November 2018, is available from the North Pacific Fishery Management Council (Council) at 605 West 4th Avenue, Suite 306, Anchorage, AK 99501-2252, phone 907-271-2809, or from the Council's website at https://www.npfmc.org/. The 2019 SAFE report for the BSAI will be available from the same source.

FOR FURTHER INFORMATION CONTACT: Steve Whitney, 907-586-7228.

SUPPLEMENTARY INFORMATION: Federal regulations at 50 CFR part 679 implement the FMP and govern the groundfish fisheries in the BSAI. The Council prepared the FMP, and NMFS approved it, under the Magnuson-Stevens Fishery Conservation and Management Act (Magnuson-Stevens Act). General regulations governing U.S. fisheries also appear at 50 CFR part 600.

The FMP and its implementing regulations require that NMFS, after consultation with the Council, specify annually the total allowable catch (TAC) for each target species category. The sum of TACs for all groundfish species in the BSAI must be within the optimum yield (OY) range of 1.4 million to 2.0 million metric tons (mt) (see § 679.20(a)(1)(i)(A)). Section 679.20(c)(1) further requires that NMFS publish proposed harvest specifications in the Federal Register and solicit public comments on proposed annual TACs and apportionments thereof, prohibited species catch (PSC) allowances, prohibited species quota (PSQ) reserves established by § 679.21, seasonal allowances of pollock, Pacific cod, and Atka mackerel TAC, American Fisheries Act allocations, Amendment 80 allocations, Community Development Quota (CDQ) reserve amounts established by § 679.20(b)(1)(ii), and acceptable biological catch (ABC) surpluses and reserves for CDQ groups and Amendment 80 cooperatives for flathead sole, rock sole, and yellowfin sole. The proposed harvest specifications set forth in Tables 1 through 15 of this action satisfy these requirements.

Under § 679.20(c)(3), NMFS will publish the final 2020 and 2021 harvest specifications after (1) considering comments received within the comment period (see DATES), (2) consulting with the Council at its December 2019 meeting, (3) considering information presented in the 2020 SIR to the Final EIS that assesses the need to prepare a Supplemental EIS (see ADDRESSES), and (4) considering information presented in the final 2019 SAFE reports prepared for the 2020 and 2021 groundfish fisheries.

Other Actions Affecting or Potentially Affecting the 2020 and 2021 Harvest Specifications

Reclassify Sculpins as an Ecosystem Component Species

In October 2019, the Council recommended that sculpins be reclassified in the FMP as an “ecosystem component” species, which is a category of non-target species that are not in need of conservation and management. Currently, NMFS annually sets an overfishing level (OFL), ABC, and TAC for sculpins in the BSAI groundfish harvest specifications. Under the Council's recommended action, OFL, ABC, and TAC specifications for sculpins would no longer be required. NMFS intends to develop rulemaking to implement the Council's recommendation for sculpins. Such a rulemaking would prohibit directed fishing for sculpins, maintain recordkeeping and reporting requirements, and establish a sculpin maximum retainable amount when directed fishing for groundfish species at 20 percent to discourage retention, while allowing flexibility to prosecute groundfish fisheries. Further details (and public comment on the sculpin action) will be available on publication of the proposed rule to implement an FMP amendment that would reclassify sculpins as an ecosystem component species in the FMP. If the FMP amendment and its implementing regulations are approved by the Secretary of Commerce, the action is anticipated to be effective in 2021. Until effective, NMFS will continue to publish OFLs, ABCs, and TACs for sculpins in the BSAI groundfish harvest specifications.

Final Rulemaking To Prohibit Directed Fishing for American Fisheries Act (AFA) Program Sideboard Limits

On February 8, 2019, NMFS published a final rule (84 FR 2723) that modified regulations for the AFA Program participants subject to limits on the catch of specific species (sideboard limits) in the BSAI. Sideboard limits are intended to prevent participants who benefit from receiving exclusive harvesting privileges in a particular fishery from shifting effort to other fisheries. Specifically, the final rule established regulations to prohibit directed fishing for most groundfish species or species groups subject to sideboard limits under the AFA Program, rather than prohibiting directed fishing through the annual BSAI harvest specifications. Since the final rule is now effective, NMFS is no longer publishing in the annual BSAI harvest specifications the AFA Program sideboard limit amounts for groundfish species or species groups subject to the final rule. Those groundfish species subject to the final rule associated with sideboard limits are now prohibited from directed fishing in regulation (§ 679.20(d)(1)(iv)(D) and Tables 54, 55, and 56 to 50 CFR part 679). NMFS will continue to publish in the annual BSAI harvest specifications the AFA Program sideboard limit amounts for groundfish species or species groups that were not subject to the final rule (see Tables 13-15 of this action).

State of Alaska Guideline Harvest Levels

For 2020 and 2021, the Board of Fisheries (BOF) for the State of Alaska (State) established the guideline harvest level (GHL) for vessels using pot gear in State waters in the Bering Sea subarea (BS) equal to 9 percent of the Pacific cod ABC in the BS. The State's pot gear BS GHL will increase one percent annually up to 15 percent of the BS ABC, if 90 percent of the GHL is harvested by November 15 of the preceding year. If 90 percent of the 2020 BS GHL is not harvested by November 15, 2020, then the 2021 BS GHL will remain at the same percent as the 2020 BS GHL. If 90 percent of the 2020 BS GHL is harvested by November 15, 2020, then the 2021 BS GHL will increase by one percent and the 2020 BS TAC will be set to account for the increased BS GHL. Also, for 2020 and 2021, the BOF established an additional GHL for vessels using jig gear in State waters in the BS equal to 45 mt of Pacific cod in the BS. The Council and its BSAI Groundfish Plan Team (Plan Team), Scientific and Statistical Committee (SSC), and Advisory Panel (AP) recommended that the sum of all State and Federal water Pacific cod removals from the BS not exceed the ABC recommendations for Pacific cod in the BS. Accordingly, the Council recommended, and NMFS proposes, that the 2020 and 2021 Pacific cod TACs in the BS account for the State's GHLs for Pacific cod caught in State waters in the BS.

For 2020 and 2021, the BOF for the State established the GHL in State waters in the Aleutian Islands subarea (AI). The 2019 AI GHL was set at 31 percent of the 2019 AI ABC (84 FR 9000; March 13, 2019). The AI GHL will increase annually by 4 percent of the AI ABC, if 90 percent of the GHL is harvested by November 15 of the preceding year, but may not exceed 39 percent of the AI ABC or 15 million pounds (6,804 mt). In 2019, 90 percent of the GHL has been harvested by November 15, 2019, which triggers a 4 percent increase in the GHL; however, 35 percent of the proposed AI ABC is 7,210 mt, which exceeds the AI GHL limit of 6,804 mt. The Council and its Plan Team, SSC, and AP recommended that the sum of all State and Federal water Pacific cod removals from the AI not exceed the proposed ABC recommendations for Pacific cod in the AI. Accordingly, the Council recommended, and NMFS proposes, that the 2020 and 2021 Pacific cod TACs in the AI account for the State's GHL of 6,804 mt for Pacific cod caught in State waters in the AI.

Proposed ABC and TAC Harvest Specifications

In October 2019, the Council's SSC, its AP, and the Council reviewed the most recent biological and harvest information on the condition of the BSAI groundfish stocks. This information was compiled by the Plan Team and presented in the final 2018 SAFE report for the BSAI groundfish fisheries, dated November 2018 (see ADDRESSES). The final 2019 SAFE report will be available from the same source.

The proposed 2020 and 2021 harvest specifications are based on the final 2020 harvest specifications published in March 2019 (84 FR 9000; March 13, 2019), which were set after consideration of the most recent 2018 SAFE report, and are based on the initial survey data that were presented at the September 2019 Plan Team meeting. The proposed 2020 and 2021 harvest specifications in this action are subject to change in the final harvest specifications to be published by NMFS following the Council's December 2019 meeting.

In November 2019, the Plan Team will update the 2018 SAFE report to include new information collected during 2019, such as NMFS stock surveys, revised stock assessments, and catch data. The Plan Team will compile this information and present the draft 2019 SAFE report at the December 2019 Council meeting. At that meeting, the SSC and the Council will review the 2019 SAFE report, and the Council will approve the 2019 SAFE report. The Council will consider information contained in the 2019 SAFE report, recommendations from the November 2019 Plan Team meeting and December 2019 SSC and AP meetings, public testimony, and relevant written comments in making its recommendations for the final 2020 and 2021 harvest specifications.

Sablefish OFL

For sablefish, at its October 2019 meeting, the SSC discussed the Plan Team's recommendation to review the apportionment and specification of the sablefish OFL and its status quo apportionments in the BS, AI, and the Gulf of Alaska (GOA). The sablefish stock assessment currently uses an Alaska-wide model that establishes an Alaska-wide OFL, which is then apportioned to three area specific OFLs: BS, AI, and GOA. The Alaska-wide OFL is currently the measurable and objective criteria used to monitor and assess the status of the sablefish stock to prevent overfishing and to determine whether overfishing has occurred or the stock is overfished. The 2018 sablefish SAFE highlights that, given extremely high movement rates throughout their range, sablefish are likely one Alaska-wide stock with no sub-populations in Alaska.

At its September 2019 meeting, the Plan Team discussed that there did not appear to be a conservation concern that warranted subarea OFLs, particularly since the six sub-area ABC apportionments are designed to spread harvest across areas and prevent any localized depletion. At its October 2019 meeting, the SSC had extensive discussion about the appropriate process for considering a combined OFL, and the SSC determined that combining the OFL is a viable option to consider for the OFL specification for 2020 and 2021. The Plan Team and SSC recommended that the sablefish stock assessment include three options for apportioning and specifying sablefish OFLs for review at the November 2019 Plan Team and December 2019 SSC meetings: (1) No change in the apportionment and specification of a BS OFL, an AI OFL, and a GOA OFL (status quo); (2) apportioning and specifying a BSAI OFL, and a separate GOA OFL; and (3) specifying an Alaska-wide OFL.

The SSC will review these three options in the sablefish stock assessment to consider a possible change to the current sablefish OFL apportionment during the December Council meeting. Based on the recommendations of the SSC, NMFS may implement a change to the specification of sablefish OFL in the final 2020 and 2021 harvest specifications.

Potential Changes Between Proposed and Final Specifications

In previous years, the most significant changes (relative to the amount of assessed tonnage of fish) to the OFLs and ABCs from the proposed to the final harvest specifications have been based on the most recent NMFS stock surveys. These surveys provide updated estimates of stock biomass and spatial distribution, and inform changes to the models or the models' results used for producing stock assessments. Any changes to models used in stock assessments will be recommended by the Plan Team in November 2019 and then included in the final 2019 SAFE report. Model changes can result in changes to final OFLs, ABCs, and TACs. The final 2019 SAFE report will include the most recent information, such as catch data.

The final harvest specification amounts for these stocks are not expected to vary greatly from these proposed harvest specification amounts. If the 2019 SAFE report indicates that the stock biomass trend is increasing for a species, then the final 2020 and 2021 harvest specifications may reflect an increase from the proposed harvest specifications. Conversely, if the 2019 SAFE report indicates that the stock biomass trend is decreasing for a species, then the final 2020 and 2021 harvest specifications may reflect a decrease from the proposed harvest specifications. In addition to changes driven by biomass trends, there may be changes in TACs due to the sum of ABCs exceeding 2 million mt. Since the regulations require TACs to be set to an OY between 1.4 and 2 million mt, the Council may be required to recommend TACs that are lower than the ABCs recommended by the Plan Team and the SSC, if setting TACs equal to ABCs would cause total TACs to exceed an OY of 2 million mt. Generally, total ABCs greatly exceed 2 million mt in years with a large pollock biomass. For both 2020 and 2021, NMFS anticipates that the sum of the final ABCs will exceed 2 million mt. NMFS expects that the final total TAC for the BSAI for both 2020 and 2021 will equal 2 million mt each year.

The proposed OFLs, ABCs, and TACs are based on the best available biological and socioeconomic information, including projected biomass trends, information on assumed distribution of stock biomass, and revised technical methods used to calculate stock biomass. The FMP specifies a series of six tiers to define OFLs and ABCs based on the level of reliable information available to fishery scientists. Tier 1 represents the highest level of information quality available, while Tier 6 represents the lowest.

In October 2019, the SSC adopted the proposed 2020 and 2021 OFLs and ABCs recommended by the Plan Team for all groundfish species. The Council adopted the SSC's OFL and ABC recommendations. These amounts are, for the most part, unchanged from the final 2020 harvest specifications published in the Federal Register on March 13, 2019 (84 FR 9000), with the exception of the removal 824 metric tons (mt) from the AI Pacific cod TAC to account for an increase in the AI GHL fishery, and a corresponding increase of 824 mt to the BS pollock TAC, so that the sum of the proposed TACs is within the OY of up to 2 million mt. For 2020 and 2021, the Council recommended, and NMFS proposes, the OFLs, ABCs, and TACs listed in Table 1. The proposed ABCs reflect harvest amounts that are less than the specified OFLs. The sum of the proposed 2020 and 2021 ABCs for all assessed groundfish is 2,967,269 mt. The sum of the proposed TACs is 2,000,000 mt.

Specification and Apportionment of TAC Amounts

The Council recommended proposed TACs that are equal to the proposed ABCs for 2020 and 2021 AI sablefish, BS sablefish, Central AI Atka mackerel, BS and Eastern AI Atka mackerel, BS Pacific ocean perch, Central AI Pacific ocean perch, Eastern AI Pacific ocean perch, and AI “other rockfish.” The Council recommended proposed TACs less than the respective proposed ABCs for all other species. Section 679.20(a)(5)(iii)(B)(1) requires the AI pollock TAC to be set at 19,000 mt when the AI pollock ABC equals or exceeds 19,000 mt. The Bogoslof pollock TAC is set to accommodate incidental catch amounts. TACs are set so that the sum of the overall TAC does not exceed the BSAI OY.

The proposed groundfish OFLs, ABCs, and TACs are subject to change pending the completion of the final 2019 SAFE report and the Council's recommendations for the final 2020 and 2021 harvest specifications during its December 2019 meeting. These proposed amounts are consistent with the biological condition of groundfish stocks as described in the 2018 SAFE report, and have been adjusted for other biological and socioeconomic considerations. Pursuant to Section 3.2.3.4.1 of the FMP, the Council could recommend adjusting the final TACs if “warranted on the basis of bycatch considerations, management uncertainty, or socioeconomic considerations; or if required in order to cause the sum of the TACs to fall within the OY range.” Table 1 lists the proposed 2020 and 2021 OFL, ABC, TAC, initial TAC (ITAC), and CDQ amounts for groundfish for the BSAI. The proposed apportionment of TAC amounts among fisheries and seasons is discussed below.

Table 1—Proposed 2020 and 2021 Overfishing Level (OFL), Acceptable Biological Catch (ABC), Total Allowable Catch (TAC), Initial TAC (ITAC), and CDQ Reserve Allocation of Groundfish in the BSAI ¹
[Amounts are in metric tons]
Species | Area | Proposed 2020 and 2021: OFL | Proposed 2020 and 2021: ABC | Proposed 2020 and 2021: TAC | Proposed 2020 and 2021: ITAC ² | Proposed 2020 and 2021: CDQ 3 4
Pollock ⁴ | BS | 3,082,000 | 1,792,000 | 1,420,824 | 1,278,742 | 142,082
| AI | 66,981 | 55,125 | 19,000 | 17,100 | 1,900
| Bogoslof | 183,080 | 137,310 | 75 | 75 |
Pacific cod ⁵ | BS | 183,000 | 137,000 | 124,625 | 111,290 | 13,335
| AI | 27,400 | 20,600 | 13,390 | 11,957 | 1,433
Sablefish | BS | 4,441 | 1,994 | 1,994 | 847 | 75
| AI | 5,997 | 2,688 | 2,688 | 571 | 50
Yellowfin sole | BSAI | 284,000 | 257,800 | 166,425 | 148,618 | 17,807
Greenland turbot | BSAI | 10,476 | 8,908 | 5,294 | 4,500 | n/a
| BS | n/a | 7,777 | 5,125 | 4,356 | 548
| AI | n/a | 1,131 | 169 | 144 | -
Arrowtooth flounder | BSAI | 83,814 | 71,411 | 8,000 | 6,800 | 856
Kamchatka flounder | BSAI | 11,260 | 9,509 | 5,000 | 4,250 |
Rock sole ⁶ | BSAI | 147,500 | 143,700 | 57,100 | 50,990 | 6,110
Flathead sole ⁷ | BSAI | 83,190 | 68,448 | 14,500 | 12,949 | 1,552
Alaska plaice | BSAI | 37,860 | 31,900 | 18,000 | 15,300 |
Other flatfish ⁸ | BSAI | 21,824 | 16,368 | 6,500 | 5,525 |
Pacific Ocean perch | BSAI | 59,396 | 49,211 | 43,625 | 38,343 | n/a
| BS | n/a | 14,274 | 14,274 | 12,133 |
| EAI | n/a | 11,146 | 11,146 | 9,953 | 1,193
| CAI | n/a | 8,205 | 8,205 | 7,327 | 878
| WAI | n/a | 15,586 | 10,000 | 8,930 | 1,070
Northern rockfish | BSAI | 15,180 | 12,396 | 6,500 | 5,525 |
Blackspotted/Rougheye rockfish ⁹ | BSAI | 868 | 715 | 279 | 237 |
| EBS/EAI | n/a | 448 | 75 | 64 |
| CAI/WAI | n/a | 267 | 204 | 173 |
Shortraker rockfish | BSAI | 722 | 541 | 358 | 304 |
Other rockfish ¹⁰ | BSAI | 1,793 | 1,344 | 663 | 564 |
| BS | n/a | 956 | 275 | 234 |
| AI | n/a | 388 | 388 | 330 |
Atka mackerel | BSAI | 73,400 | 63,400 | 53,635 | 47,896 | 5,739
| EAI/BS | n/a | 22,190 | 22,190 | 19,816 | 2,374
| CAI | n/a | 13,310 | 13,310 | 11,886 | 1,424
| WAI | n/a | 27,900 | 18,135 | 16,195 | 1,940
Skates | BSAI | 48,944 | 40,813 | 26,000 | 22,100 |
Sculpins | BSAI | 53,201 | 39,995 | 5,000 | 4,250 |
Sharks | BSAI | 689 | 517 | 125 | 106 |
Octopuses | BSAI | 4,769 | 3,576 | 400 | 340 |
Total |  | 4,491,785 | 2,967,269 | 2,000,000 | 1,789,605 | 194,628
¹ These amounts apply to the entire BSAI management area unless otherwise specified. With the exception of pollock, and for the purpose of these harvest specifications, the Bering Sea subarea includes the Bogoslof District.
² Except for pollock, the portion of the sablefish TAC allocated to hook-and-line and pot gear, and the Amendment 80 species (Atka mackerel, flathead sole, rock sole, yellowfin sole, Pacific cod, and Aleutian Islands Pacific ocean perch), 15 percent of each TAC is put into a non-specified reserve. The ITAC for these species is the remainder of the TAC after the subtraction of these reserves. For pollock and Amendment 80 species, ITAC is the non-CDQ allocation of TAC (see footnote 3 and 4).
³ For the Amendment 80 species (Atka mackerel, flathead sole, rock sole, yellowfin sole, Pacific cod, and Aleutian Islands Pacific ocean perch), 10.7 percent of the TAC is reserved for use by CDQ participants (see §§ 679.20(b)(1)(ii)(C) and 679.31). Twenty percent of the sablefish TAC allocated to hook-and-line gear or pot gear, 7.5 percent of the sablefish TAC allocated to trawl gear, and 10.7 percent of the TACs for Bering Sea Greenland turbot and BSAI arrowtooth flounder are reserved for use by CDQ participants (see § 679.20(b)(1)(ii)(B) and (D)). The 2020 hook-and-line or pot gear portion of the sablefish ITAC and CDQ reserve will not be specified until the final 2020 and 2021 harvest specifications. Aleutian Islands Greenland turbot, “other flatfish,” Alaska plaice, Bering Sea Pacific ocean perch, Kamchatka flounder, northern rockfish, shortraker rockfish, blackspotted and rougheye rockfish, “other rockfish,” skates, sculpins, sharks, and octopuses are not allocated to the CDQ Program.
⁴ Under § 679.20(a)(5)(i)(A), the annual BS pollock TAC, after subtracting first for the CDQ directed fishing allowance (10 percent) and second for the incidental catch allowance (3.9 percent), is further allocated by sector for a pollock directed fishery as follows: inshore—50 percent; catcher/processor—40 percent; and motherships-10 percent. Under § 679.20(a)(5)(iii)(B)(2), the annual AI pollock TAC, after subtracting first for the CDQ directed fishing allowance (10 percent) and second for the incidental catch allowance (2,400 mt), is allocated to the Aleut Corporation for a pollock directed fishery.
⁵ The BS Pacific cod TAC is set to account for the 9 percent, plus 45 mt, of the BS ABC for the State of Alaska's (State) guideline harvest level in State waters of the BS. The AI Pacific cod TAC is set to account for 35 percent of the AI ABC for the State guideline harvest level in State waters of the AI, unless the State guideline harvest level would exceed 15 million pounds (6,804 mt), in which case the TAC is set to account for the maximum authorized State guideline harvest level.
⁶ “Rock sole” includes Lepidopsetta polyxystra (Northern rock sole) and Lepidopsetta bilineata (Southern rock sole).
⁷ “Flathead sole” includes Hippoglossoides elassodon (flathead sole) and Hippoglossoides robustus (Bering flounder).
⁸ “Other flatfish” includes all flatfish species, except for halibut (a prohibited species), Alaska plaice, arrowtooth flounder, flathead sole, Greenland turbot, Kamchatka flounder, rock sole, and yellowfin sole.
⁹ “Blackspotted/Rougheye rockfish” includes Sebastes melanostictus (blackspotted) and Sebastes aleutianus (rougheye).
¹⁰ “Other rockfish” includes all Sebastes and Sebastolobus species except for dark rockfish, Pacific ocean perch, northern rockfish, blackspotted/rougheye rockfish, and shortraker rockfish.
Note: Regulatory areas and districts are defined at § 679.2 (BSAI = Bering Sea and Aleutian Islands management area, BS = Bering Sea subarea, AI = Aleutian Islands subarea, EAI = Eastern Aleutian district, CAI = Central Aleutian district, WAI = Western Aleutian district).

Groundfish Reserves and the Incidental Catch Allowance (ICA) for Pollock, Atka Mackerel, Flathead Sole, Rock Sole, Yellowfin Sole, and AI Pacific Ocean Perch

Section 679.20(b)(1)(i) requires NMFS to reserve 15 percent of the TAC for each target species category (except for pollock, hook-and-line and pot gear allocation of sablefish, and Amendment 80 species) in a non-specified reserve. Section 679.20(b)(1)(ii)(B) requires that NMFS allocate 20 percent of the hook-and-line or pot gear allocation of sablefish to the fixed gear sablefish CDQ reserve for each subarea. Section 679.20(b)(1)(ii)(D) requires that NMFS allocate 7.5 percent of the trawl gear allocation of sablefish and 10.7 percent of BS Greenland turbot and arrowtooth flounder TACs to the respective CDQ reserves. Section 679.20(b)(1)(ii)(C) requires that NMFS allocate 10.7 percent of the TACs for Atka mackerel, AI Pacific ocean perch, yellowfin sole, rock sole, flathead sole, and Pacific cod to the respective CDQ reserves.

Sections 679.20(a)(5)(i)(A) and 679.31(a) require allocation of 10 percent of the BS pollock TAC to the pollock CDQ directed fishing allowance (DFA). Sections 679.20(a)(5)(iii)(B)(2)(i) and 679.31(a) require 10 percent of the AI pollock TAC be allocated to the pollock CDQ DFA. The entire Bogoslof District pollock TAC is allocated as an ICA pursuant to § 679.20(a)(5)(ii) because the Bogoslof District is closed to directed fishing for pollock by regulation (§ 679.22(a)(7)(B)). With the exception of the hook-and-line or pot gear sablefish CDQ reserve, the regulations do not further apportion the CDQ reserves by gear.

Pursuant to § 679.20(a)(5)(i)(A)(1), NMFS proposes a pollock ICA of 3.9 percent or 49,871 mt of the BS pollock TAC after subtracting the 10 percent CDQ DFA. This allowance is based on NMFS's examination of the pollock incidentally retained and discarded catch, including the incidental catch by CDQ vessels, in target fisheries other than pollock from 2000 through 2019. During this 20-year period, the pollock incidental catch ranged from a low of 2.2 percent in 2006 to a high of 4.6 percent in 2014, with a 20-year average of 3 percent. Pursuant to §§ 679.20(a)(5)(iii)(B)(2)(i) and (ii), NMFS proposes a pollock ICA of 14 percent or 2,400 mt of the AI pollock TAC after subtracting the 10 percent CDQ DFA. This allowance is based on NMFS's examination of the pollock incidental catch, including the incidental catch by CDQ vessels, in target fisheries other than pollock from 2003 through 2019. During this 17-year period, the incidental catch of pollock ranged from a low of 5 percent in 2006 to a high of 17 percent in 2014, with a 17-year average of 9 percent.

Pursuant to §§ 679.20(a)(8) and (10), NMFS proposes ICAs of 3,000 mt of flathead sole, 6,000 mt of rock sole, 4,000 mt of yellowfin sole, 10 mt of Western Aleutian District Pacific ocean perch, 60 mt of Central Aleutian District Pacific ocean perch, 100 mt of Eastern Aleutian District Pacific ocean perch, 20 mt of Western Aleutian District Atka mackerel, 75 mt of Central Aleutian District Atka mackerel, and 800 mt of Eastern Aleutian District and BS Atka mackerel, after subtracting the 10.7 percent CDQ reserve. These ICAs are based on NMFS's examination of the average incidental catch in other target fisheries from 2003 through 2019.

The regulations do not designate the remainder of the non-specified reserve by species or species group. Any amount of the reserve may be apportioned to a target species that contributed to the non-specified reserve during the year, provided that such apportionments are consistent with § 679.20(a)(3) and do not result in overfishing (see § 679.20(b)(1)(i)).

Allocations of Pollock TAC Under the American Fisheries Act (AFA)

Section 679.20(a)(5)(i)(A) requires that BS pollock TAC be apportioned as a DFA, after subtracting 10 percent for the CDQ Program and 3.9 percent for the ICA, as follows: 50 percent to the inshore sector, 40 percent to the catcher/processor (C/P) sector, and 10 percent to the mothership sector. In the BS, 45 percent of the DFA is allocated to the A season (January 20 to June 10), and 55 percent of the DFA is allocated to the B season (June 10 to November 1) (§§ 679.20(a)(5)(i)(B)(1) and 679.23(e)(2)). The AI directed pollock fishery allocation to the Aleut Corporation is the amount of pollock TAC remaining in the AI after subtracting 1,900 mt for the CDQ DFA (10 percent), and 2,400 mt for the ICA (§ 679.20(a)(5)(iii)(B)(2)). In the AI, the total A season apportionment of the pollock TAC (including the AI directed fishery allocation, the CDQ DFA, and the ICA) may equal up to 40 percent of the ABC for AI pollock, and the remainder of the pollock TAC is allocated to the B season (§ 679.20(a)(5)(iii)(B)(3)). Table 2 lists these proposed 2020 and 2021 amounts.

Section 679.20(a)(5)(iii)(B)(6) sets harvest limits for pollock in the A season (January 20 to June 10) in Areas 543, 542, and 541. In Area 543, the A season pollock harvest limit is no more than 5 percent of the AI pollock ABC. In Area 542, the A season pollock harvest limit is no more than 15 percent of the AI pollock ABC. In Area 541, the A season pollock harvest limit is no more than 30 percent of the AI pollock ABC.

Section 679.20(a)(5)(i)(A)(4) includes several specific requirements regarding BS pollock allocations. First, it requires that 8.5 percent of the pollock allocated to the C/P sector be available for harvest by AFA catcher vessels (CV) with C/P sector endorsements, unless the Regional Administrator receives a cooperative contract that allows the distribution of harvest among AFA C/Ps and AFA CVs in a manner agreed to by all members. Second, AFA C/Ps not listed in the AFA are limited to harvesting not more than 0.5 percent of the pollock allocated to the C/P sector. Table 2 lists the proposed 2020 and 2021 allocations of pollock TAC. Tables 13, 14, and 15 list the AFA C/P and CV harvesting sideboard limits. The BS inshore pollock cooperative and open access sector allocations are based on the submission of AFA inshore cooperative applications due to NMFS on December 1 of each calendar year. Because AFA inshore cooperative applications for 2020 have not been submitted to NMFS, and NMFS therefore cannot calculate 2020 allocations, NMFS has not included inshore cooperative tables in these proposed harvest specifications. NMFS will post 2020 AFA inshore pollock cooperative and open access sector allocations on the Alaska Region website at https://www.fisheries.noaa.gov/alaska/sustainable-fisheries/alaska-fisheries-management-reports prior to the start of the fishing year on January 1, 2020, based on the harvest specifications effective on that date.

Table 2 also lists proposed seasonal apportionments of pollock and harvest limits within the Steller Sea Lion Conservation Area (SCA). The harvest of pollock within the SCA, as defined at § 679.22(a)(7)(vii), is limited to no more than 28 percent of the annual pollock DFA before 12:00 noon, April 1, as provided in § 679.20(a)(5)(i)(C). The A season pollock SCA harvest limit will be apportioned to each sector in proportion to each sector's allocated percentage of the DFA. Table 2 lists these proposed 2020 and 2021 amounts by sector.

Table 2—Proposed 2020 and 2021 Allocations of Pollock TACs to the Directed Pollock Fisheries and to the CDQ Directed Fishing Allowances (DFA) ¹
[Amounts are in metric tons]
Area and sector | 2020 and 2021 allocations | A season ¹: A season DFA | A season ¹: SCA harvest limit ² | B season ¹: B season DFA
Bering Sea subarea TAC | 1,420,824 | n/a | n/a | n/a
CDQ DFA | 142,082 | 63,937 | 39,783 | 78,145
ICA ¹ | 49,871 | n/a | n/a | n/a
Total Bering Sea DFA (non-CDQ) | 1,228,871 | 552,992 | 344,084 | 675,879
AFA Inshore | 614,435 | 276,496 | 172,042 | 337,939
AFA Catcher/Processors ³ | 491,548 | 221,197 | 137,634 | 270,352
Catch by C/Ps | 449,767 | 202,395 | n/a | 247,372
Catch by C/Vs ³ | 41,782 | 18,802 | n/a | 22,980
Unlisted C/P Limit ⁴ | 2,458 | 1,106 | n/a | 1,352
AFA Motherships | 122,887 | 55,299 | 34,408 | 67,588
Excessive Harvesting Limit ⁵ | 215,052 | n/a | n/a | n/a
Excessive Processing Limit ⁶ | 368,661 | n/a | n/a | n/a
Aleutian Islands subarea ABC | 55,125 | n/a | n/a | n/a
Aleutian Islands subarea TAC | 19,000 | n/a | n/a | n/a
CDQ DFA | 1,900 | 760 | n/a | 1,140
ICA | 2,400 | 1,200 | n/a | 1,200
Aleut Corporation | 14,700 | 10,361 | n/a | 4,339
Area harvest limit ⁷ | n/a | n/a | n/a | n/a
Area 541 harvest limit ⁷ | 16,538 | n/a | n/a | n/a
Area 542 harvest limit ⁷ | 8,269 | n/a | n/a | n/a
Area 543 harvest limit ⁷ | 2,756 | n/a | n/a | n/a
Bogoslof District ICA ⁸ | 75 | n/a | n/a | n/a
¹ Pursuant to § 679.20(a)(5)(i)(A), the annual Bering Sea subarea pollock TAC, after subtracting the CDQ DFA (10 percent) and the ICA (3.9 percent), is allocated as a DFA as follows: Inshore sector—50 percent, catcher/processor sector (C/Ps)—40 percent, and mothership sector-10 percent. In the Bering Sea subarea, 45 percent of the DFA is allocated to the A season (January 20-June 10) and 55 percent of the DFA is allocated to the B season (June 10-November 1). Pursuant to § 679.20(a)(5)(iii)(B)(2)(i) through (iii), the annual AI pollock TAC, after subtracting first for the CDQ DFA (10 percent) and second for the ICA (2,400 mt), is allocated to the Aleut Corporation for a directed pollock fishery. In the AI subarea, the A season is allocated up to 40 percent of the AI pollock ABC.
² In the Bering Sea subarea, pursuant to § 679.20(a)(5)(i)(C), no more than 28 percent of each sector's annual DFA may be taken from the SCA before noon, April 1.
³ Pursuant to § 679.20(a)(5)(i)(A)(4), 8.5 percent of the DFA allocated to listed C/Ps shall be available for harvest only by eligible catcher vessels with C/P endorsement delivering to listed C/Ps, unless there is a C/P sector cooperative for the year.
⁴ Pursuant to § 679.20(a)(5)(i)(A)(4)(iii), the AFA unlisted C/Ps are limited to harvesting not more than 0.5 percent of the C/Ps sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 no more than 30 percent, in Area 542 no more than 15 percent, and in Area 543 no more than 5 percent of the Aleutian Islands pollock ABC.
⁸ Pursuant to § 679.22(a)(7)(B), the Bogoslof District is closed to directed fishing for pollock. The amounts specified are for incidental catch only and are not apportioned by season or sector.

Allocation of the Atka Mackerel TACs

Section 679.20(a)(8) allocates the Atka mackerel TACs to the Amendment 80 and BSAI trawl limited access sectors, after subtracting the CDQ reserves, ICAs for the BSAI trawl limited access sector and non-trawl gear sectors, and the jig gear allocation (Table 3). The percentage of the ITAC for Atka mackerel allocated to the Amendment 80 and BSAI trawl limited access sectors is listed in Table 33 to 50 CFR part 679 and in § 679.91. Pursuant to § 679.20(a)(8)(i), up to 2 percent of the Eastern Aleutian District and Bering Sea subarea Atka mackerel TAC may be allocated to vessels using jig gear. The percent of this allocation is recommended annually by the Council based on several criteria, including the anticipated harvest capacity of the jig gear fleet. The Council recommended, and NMFS proposes, a 0.5 percent allocation of the Atka mackerel TAC in the Eastern Aleutian District and Bering Sea subarea to jig gear in 2020 and 2021.

Section 679.20(a)(8)(ii)(A) apportions the Atka mackerel TAC into two equal seasonal allowances. Section 679.23(e)(3) sets the first seasonal allowance for directed fishing with trawl gear from January 20 through June 10 (A season), and the second seasonal allowance from June 10 through December 31 (B season). Section 679.23(e)(4)(iii) applies Atka mackerel seasons to trawl CDQ Atka mackerel fishing. The ICA and jig gear allocations are not apportioned by season.

Section 679.20(a)(8)(ii)(C)(1)(i) and (ii) limits Atka mackerel catch within waters 0 nm to 20 nm of Steller sea lion sites listed in Table 6 to 50 CFR part 679 and located west of 178° W longitude to no more than 60 percent of the annual TACs in Areas 542 and 543, and equally divides the annual TAC between the A and B seasons as defined at § 679.23(e)(3). Section 679.20(a)(8)(ii)(C)(2) requires that the annual TAC in Area 543 will be no more than 65 percent of the ABC in Area 543. Section 679.20(a)(8)(ii)(D) requires that any unharvested Atka mackerel A season allowance that is added to the B season be prohibited from being harvested within waters 0 nm to 20 nm of Steller sea lion sites listed in Table 6 to 50 CFR part 679 and located in Areas 541, 542, and 543.

Table 3 lists the proposed 2020 and 2021 Atka mackerel season allowances, area allowances, and the sector allocations. One Amendment 80 cooperative has formed for the 2020 fishing year. Because all Amendment 80 vessels are part of the cooperative, no allocation to the Amendment 80 limited access sector is required for 2020. The 2021 allocations for Atka mackerel between Amendment 80 cooperatives and the Amendment 80 limited access sector will not be known until eligible participants apply for participation in the program by November 1, 2020. NMFS will post 2021 Amendment 80 cooperatives and Amendment 80 limited access sector allocations on the Alaska Region website at https://www.fisheries.noaa.gov/alaska/sustainable-fisheries/sustainable-fisheries-alaska prior to the start of the fishing year on January 1, 2021, based on the harvest specifications effective on that date.

Table 3—Proposed 2020 and 2021 Seasonal and Spatial Allowances, Gear Shares, CDQ Reserve, Incidental Catch Allowance (ICA), and Amendment 80 Allocations of the BSAI Atka Mackerel TAC
[Amounts are in metric tons]
Sector ¹ | Season 2 3 4 | 2020 and 2021 allocation by area: Eastern Aleutian District/Bering Sea | 2020 and 2021 allocation by area: Central Aleutian District ⁵ | 2020 and 2021 allocation by area: Western Aleutian District ⁵
TAC | n/a | 22,190 | 13,310 | 18,135
CDQ reserve | Total | 2,374 | 1,424 | 1,940
| A | 1,187 | 712 | 970
| Critical habitat ⁵ | n/a | 427 | 582
| B | 1,187 | 712 | 970
| Critical habitat ⁵ | n/a | 427 | 582
non-CDQ TAC | n/a | 19,816 | 11,886 | 16,195
ICA | Total | 800 | 75 | 20
Jig ⁶ | Total | 95 |  |
BSAI trawl limited access | Total | 1,892 | 1,181 |
| A | 946 | 591 |
| Critical habitat ⁵ | n/a | 354 |
| B | 946 | 591 |
| Critical habitat ⁵ | n/a | 354 |
Amendment 80 | Total | 17,029 | 10,630 | 16,175
| A | 8,514 | 5,315 | 8,087
| Critical habitat ⁵ | n/a | 3,189 | 4,852
| B | 8,514 | 5,315 | 8,087
| Critical habitat ⁵ | n/a | 3,189 | 4,852
¹ Section 679.20(a)(8)(ii) allocates the Atka mackerel TACs, after subtracting the CDQ reserves, ICAs, and the jig gear allocation, to the Amendment 80 and BSAI trawl limited access sectors. The allocation of the ITAC for Atka mackerel to the Amendment 80 and BSAI trawl limited access sectors is established in Table 33 to 50 CFR part 679 and § 679.91. The CDQ reserve is 10.7 percent of the TAC for use by CDQ participants (see §§ 679.20(b)(1)(ii)(C) and 679.31).
² Sections 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10, and the B season from June 10 to December 31.
⁵ Section 679.20(a)(8)(ii)(C)(1)(i) limits no more than 60 percent of the annual TACs in Areas 542 and 543 to be caught inside of Steller sea lion critical habitat; § 679.20(a)(8)(ii)(C)(1)(ii) equally divides the annual TACs between the A and B seasons as defined at § 679.23(e)(3); and § 679.20(a)(8)(ii)(C)(2) requires the TAC in Area 543 shall be no more than 65 percent of ABC in Area 543.
⁶ Section 679.20(a)(8)(i) requires that up to 2 percent of the Eastern Aleutian District and Bering Sea subarea TAC be allocated to jig gear after subtraction of the CDQ reserve and ICA. The proposed amount of this allocation for 2020 and 2021 is 0.5 percent. The jig gear allocation is not apportioned by season.

Allocation of the Pacific Cod TAC

The Council separated BS and AI subarea OFLs, ABCs, and TACs for Pacific cod in 2014 (79 FR 12108; March 4, 2014). Section 679.20(b)(1)(ii)(C) allocates 10.7 percent of the BS TAC and the AI TAC to the CDQ Program. After CDQ allocations have been deducted from the respective BS and AI Pacific cod TACs, the remaining BS and AI Pacific cod TACs are combined for calculating further BSAI Pacific cod sector allocations. If the non-CDQ Pacific cod TAC is or will be reached in either the BS or the AI subareas, NMFS will prohibit directed fishing for non-CDQ Pacific cod in that subarea, as provided in § 679.20(d)(1)(iii).

Section 679.20(a)(7)(i) and (ii) allocates to the non-CDQ sectors the combined BSAI Pacific cod TAC, after subtracting 10.7 percent for the CDQ Program, as follows: 1.4 percent to vessels using jig gear, 2.0 percent to hook-and-line or pot CVs less than 60 ft (18.3 m) length overall (LOA), 0.2 percent to hook-and-line CVs greater than or equal to 60 ft (18.3 m) LOA, 48.7 percent to hook-and-line C/Ps, 8.4 percent to pot CVs greater than or equal to 60 ft (18.3 m) LOA, 1.5 percent to pot C/Ps, 2.3 percent to AFA trawl C/Ps, 13.4 percent to the Amendment 80 sector, and 22.1 percent to trawl CVs. The BSAI ICA for the hook-and-line and pot sectors will be deducted from the aggregate portion of BSAI Pacific cod TAC allocated to the hook-and-line and pot sectors. For 2020 and 2021, the Regional Administrator proposes a BSAI ICA of 400 mt, based on anticipated incidental catch by these sectors in other fisheries.

The BSAI ITAC allocation of Pacific cod to the Amendment 80 sector is established in Table 33 to 50 CFR part 679 and § 679.91. One Amendment 80 cooperative has formed for the 2020 fishing year. Because all Amendment 80 vessels are part of the cooperative, no allocation to the Amendment 80 limited access sector is required for 2020. The 2021 allocations for Amendment 80 species between Amendment 80 cooperatives and the Amendment 80 limited access sector will not be known until eligible participants apply for participation in the program by November 1, 2020. NMFS will post 2021 Amendment 80 cooperatives and Amendment 80 limited access allocations on the Alaska Region website at https://www.fisheries.noaa.gov/alaska/sustainable-fisheries/sustainable-fisheries-alaska prior to the start of the fishing year on January 1, 2021, based on the harvest specifications effective on that date.

The sector allocations of Pacific cod are apportioned into seasonal allowances to disperse the Pacific cod fisheries over the fishing year (see §§ 679.20(a)(7)(i)(B), 679.20 (a)(7)(iv)(A), and 679.23(e)(5)). In accordance with §§ 679.20(a)(7)(iv)(B) and (C), any unused portion of a Pacific cod seasonal allowance for any sector, except the jig sector, will become available at the beginning of that sector's next seasonal allowance.

Section 679.20(a)(7)(vii) requires that the Regional Administrator establish an Area 543 Pacific cod harvest limit based on Pacific cod abundance in Area 543. Based on the 2018 stock assessment, the Regional Administrator determined for 2020 and 2021 that the estimated amount of Pacific cod abundance in Area 543 is 15.7 percent of total AI abundance. NMFS will first subtract the State GHL Pacific cod amount from the AI Pacific cod ABC. Then NMFS will determine the harvest limit in Area 543 by multiplying the percentage of Pacific cod estimated in Area 543 (15.7 percent) by the remaining ABC for AI Pacific cod. Based on these calculations, which rely on the 2018 stock assessment, the proposed Area 543 harvest limit is 2,102 mt. However, the final Area 543 harvest limit could change if the Pacific cod abundance in Area 543 changes based on the stock assessment in the final 2019 SAFE report.

On March 21, 2019, the final rule adopting Amendment 113 to the FMP (81 FR 84434; November 23, 2016) was vacated by the U.S. District Court for the District of Columbia (Groundfish Forum v. Ross, No. 16-2495 (D.D.C. March 21, 2019)), and the corresponding regulations implementing Amendment 113 are no longer in effect. Therefore, this proposed rule is not specifying amounts for the AI Pacific Cod Catcher Vessel Harvest Set-Aside Program (see § 679.20(a)(7)(viii)).

Table 4 lists the CDQ and non-CDQ seasonal allowances by gear based on the proposed 2020 and 2021 Pacific cod TACs; the sector allocation percentages of Pacific cod set forth at §§ 679.20(a)(7)(i)(B) and (a)(7)(iv)(A); and the seasons set forth at § 679.23(e)(5).

Table 4—Proposed 2020 and 2021 Sector Allocations and Seasonal Allowances of the BSAI ¹ Pacific Cod TAC
[Amounts are in metric tons]
Sector | Percent | 2020 and 2021 share of gear sector total | 2020 and 2021 share of sector total | 2020 and 2021 seasonal apportionment: Season | 2020 and 2021 seasonal apportionment: Amount
Total Bering Sea TAC | n/a | 124,625 | n/a | n/a | n/a
Bering Sea CDQ | n/a | 13,335 | n/a | See § 679.20(a)(7)(i)(B) | n/a
Bering Sea non-CDQ TAC | n/a | 111,290 | n/a | n/a | n/a
Total Aleutian Islands TAC | n/a | 13,390 | n/a | n/a | n/a
Aleutian Islands CDQ | n/a | 1,433 | n/a | See § 679.20(a)(7)(i)(B) | n/a
Aleutian Islands non-CDQ TAC | n/a | 11,957 | n/a | n/a | n/a
Western Aleutians Islands Limit | n/a | 2,102 | n/a | n/a | n/a
Total BSAI non-CDQ TAC ¹ | 100 | 123,247 | n/a | n/a | n/a
Total hook-and-line/pot gear | 61 | 74,934 | n/a | n/a | n/a
Hook-and-line/pot ICA ² | n/a | n/a | 400 | n/a | n/a
Hook-and-line/pot sub-total | n/a | 74,534 | n/a | n/a | n/a
Hook-and-line catcher/processors | 49 | n/a | 59,701 | Jan-1-Jun 10 Jun 10-Dec 31 | 30,448 29,254
Hook-and-line catcher vessels ≥60 ft LOA | 0 | n/a | 245 | Jan 1-Jun 10 Jun 10-Dec 31 | 125 120
Pot catcher/processors | 2 | n/a | 1,839 | Jan 1-Jun 10 Sept 1-Dec 31 | 938 901
Pot catcher vessels ≥60 ft LOA | 8 | n/a | 10,298 | Jan 1-Jun 10 Sept-1-Dec 31 | 5,252 5,046
Catcher vessels <60 ft LOA using hook-and-line or pot gear | 2 | n/a | 2,452 | n/a | n/a
Trawl catcher vessels | 22 | 27,238 | n/a | Jan 20-Apr 1 Apr 1-Jun 10 Jun 10-Nov 1 | 20,156 2,996 4,086
AFA trawl catcher/processors | 2 | 2,835 | n/a | Jan 20-Apr 1 Apr 1-Jun 10 Jun 10-Nov 1 | 2,126 709
Amendment 80 | 13 | 16,515 | n/a | Jan 20-Apr 1 Apr 1-Jun 10 Jun 10-Nov 1 | 12,386 4,129
Jig | 1 | 1,725 | n/a | Jan 1-Apr 30 Apr 30-Aug 31 Aug 31-Dec 31 | 1,035 345 345
¹ The sector allocations and seasonal allowances for BSAI Pacific cod TAC are based on the sum of the BS and AI Pacific cod TACs, after subtraction of the reserve for the CDQ Program. If the TAC for Pacific cod in either the AI or BS is reached, then directed fishing will be prohibited for Pacific cod in that subarea, even if a BSAI allowance remains.
² The ICA for the hook-and-line and pot sectors will be deducted from the aggregate portion of Pacific cod TAC allocated to the hook-and-line and pot sectors. The Regional Administrator proposes an ICA of 400 mt for 2020 and 2021 based on anticipated incidental catch in these fisheries.

Sablefish Gear Allocation

Section 679.20(a)(4)(iii) and (iv) require allocation of sablefish TAC for the BS and AI between trawl gear and hook-and-line or pot gear. Gear allocations of the sablefish TAC for the BS are 50 percent for trawl gear and 50 percent for hook-and-line or pot gear. Gear allocations of the TAC for the AI are 25 percent for trawl gear and 75 percent for hook-and-line or pot gear. Section 679.20(b)(1)(ii)(B) requires that NMFS apportion 20 percent of the hook-and-line or pot gear allocation of sablefish TAC to the CDQ reserve for each subarea. Also, § 679.20(b)(1)(ii)(D)(1) requires that 7.5 percent of the trawl gear allocation of sablefish TAC from the non-specified reserve, established under § 679.20(b)(1)(i), be apportioned to the CDQ reserve. The Council recommended that only trawl sablefish TAC be established biennially. The harvest specifications for the hook-and-line or pot gear sablefish Individual Fishing Quota (IFQ) fisheries are limited to the 2020 fishing year to ensure those fisheries are conducted concurrently with the halibut IFQ fishery. Concurrent sablefish and halibut IFQ fisheries reduce the potential for discards of halibut and sablefish in those fisheries. The sablefish IFQ fisheries remain closed at the beginning of each fishing year until the final harvest specifications for the sablefish IFQ fisheries are in effect. Table 5 lists the proposed 2020 and 2021 gear allocations of the sablefish TAC and CDQ reserve amounts.

Table 5—Proposed 2020 and 2021 Gear Shares and CDQ Reserve of BSAI Sablefish TACs
[Amounts are in metric tons]
Subarea and gear | Percent of TAC | 2020 Share of TAC | 2020 ITAC ¹ | 2020 CDQ reserve | 2021 Share of TAC | 2021 ITAC | 2021 CDQ reserve
Bering Sea
Trawl | 50 | 997 | 847 | 75 | 997 | 847 | 75
Hook-and-line gear/pot ² | 50 | 997 | n/a | 199 | n/a | n/a | n/a
Total | 100 | 1,994 | 847 | 274 | 997 | 847 | 75
Aleutian Islands
Trawl | 25 | 672 | 571 | 50 | 672 | 571 | 50
Hook-and-line gear/pot ² | 75 | 2,016 | n/a | 403 | n/a | n/a | n/a
Total | 100 | 2,688 | 571 | 454 | 672 | 571 | 50
¹ Except for the sablefish hook-and-line and pot gear allocation, 15 percent of TAC is apportioned to the non-specified reserve (§ 679.20(b)(1)(i)). The ITAC is the remainder of the TAC after the subtraction of these reserves.
² For the portion of the sablefish TAC allocated to vessels using hook-and-line or pot gear, 20 percent of the allocated TAC is reserved for use by CDQ participants (§ 679.20(b)(1)(ii)(B)). The Council recommended that specifications for the hook-and-line or pot gear sablefish IFQ fisheries be limited to one year.
Note: Seasonal or sector apportionments may not total precisely due to rounding.

Allocation of the AI Pacific Ocean Perch, and BSAI Flathead Sole, Rock Sole, and Yellowfin Sole TACs

Section 679.20(a)(10)(i) and (ii) require that NMFS allocate AI Pacific ocean perch, and BSAI flathead sole, rock sole, and yellowfin sole TACs between the Amendment 80 sector and the BSAI trawl limited access sector, after subtracting 10.7 percent for the CDQ reserves and amounts for ICAs for the BSAI trawl limited access sector and vessels using non-trawl gear. The allocation of the ITAC for AI Pacific ocean perch, and BSAI flathead sole, rock sole, and yellowfin sole to the Amendment 80 sector is established in Tables 33 and 34 to 50 CFR part 679 and in § 679.91.

One Amendment 80 cooperative has formed for the 2020 fishing year. Because all Amendment 80 vessels are part of the cooperative, no allocation to the Amendment 80 limited access sector is required for 2020. The 2021 allocations for Amendment 80 species between Amendment 80 cooperatives and the Amendment 80 limited access sector will not be known until eligible participants apply for participation in the program by November 1, 2020. NMFS will post 2021 Amendment 80 cooperatives and Amendment 80 limited access sector allocations on the Alaska Region website at https://www.fisheries.noaa.gov/alaska/sustainable-fisheries/sustainable-fisheries-alaska prior to the start of the fishing year on January 1, 2021, based on the harvest specifications effective on that date. Section 679.91(i)(2) establishes each Amendment 80 cooperative ABC reserve to be the ratio of each cooperatives' quota share units and the total Amendment 80 quota share units, multiplied by the Amendment 80 ABC reserve for each respective species. Table 6 lists the proposed 2020 and 2021 allocations of the AI Pacific ocean perch, and BSAI flathead sole, rock sole, and yellowfin sole TACs.

Table 6—Proposed 2020 and 2021 Community Development Quota (CDQ) Reserves, Incidental Catch Amounts (ICAS), and Amendment 80 Allocations of the Aleutian Islands Pacific Ocean Perch, and BSAI Flathead Sole, Rock Sole, and Yellowfin Sole TACs
[Amounts are in metric tons]
Sector | 2020 and 2021 allocations: Pacific ocean perch: Eastern Aleutian district | 2020 and 2021 allocations: Pacific ocean perch: Central Aleutian district | 2020 and 2021 allocations: Pacific ocean perch: Western Aleutian district | 2020 and 2021 allocations: Flathead sole: BSAI | 2020 and 2021 allocations: Rock sole: BSAI | 2020 and 2021 allocations: Yellowfin sole: BSAI
TAC | 11,146 | 8,205 | 10,000 | 14,500 | 57,100 | 166,425
CDQ | 1,193 | 878 | 1,070 | 1,552 | 6,110 | 17,807
ICA | 100 | 60 | 10 | 3,000 | 6,000 | 4,000
BSAI trawl limited access | 985 | 727 | 178 |  |  | 22,789
Amendment 80 | 8,868 | 6,540 | 8,742 | 9,949 | 44,990 | 121,828

Section 679.2 defines the ABC surplus for flathead sole, rock sole, and yellowfin sole as the difference between the annual ABC and TAC for each species. Section 679.20(b)(1)(iii) establishes ABC reserves for flathead sole, rock sole, and yellowfin sole. The ABC surpluses and the ABC reserves are necessary to mitigate the operational variability, environmental conditions, and economic factors that may constrain the CDQ groups and the Amendment 80 cooperatives from achieving, on a continuing basis, the optimum yield in the BSAI groundfish fisheries. NMFS, after consultation with the Council, may set the ABC reserve at or below the ABC surplus for each species, thus maintaining the TAC below ABC limits. An amount equal to 10.7 percent of the ABC reserves will be allocated as CDQ ABC reserves for flathead sole, rock sole, and yellowfin sole. Section 679.31(b)(4) establishes the annual allocations of CDQ ABC reserves among the CDQ groups. The Amendment 80 ABC reserves are the ABC reserves minus the CDQ ABC reserves and are allocated to each Amendment 80 cooperative pursuant to § 679.91(i)(2). Table 7 lists the proposed 2020 and 2021 ABC surplus and ABC reserves for BSAI flathead sole, rock sole, and yellowfin sole.

Table 7—Proposed 2020 and 2021 ABC Surplus, ABC Reserves, Community Development Quota (CDQ) ABC Reserves, and Amendment 80 ABC Reserves in the BSAI for Flathead Sole, Rock Sole, and Yellowfin Sole
[Amounts are in metric tons]
Sector | Flathead sole | Rock sole | Yellowfin sole
ABC | 68,448 | 143,700 | 257,800
TAC | 14,500 | 57,100 | 166,425
ABC surplus | 53,948 | 86,600 | 91,375
ABC reserve | 53,948 | 86,600 | 91,375
CDQ ABC reserve | 5,772 | 9,266 | 9,777
Amendment 80 ABC reserve | 48,176 | 77,334 | 81,598

Proposed PSC Limits for Halibut, Salmon, Crab, and Herring

Section 679.21(b), (e), (f), and (g) set forth the BSAI PSC limits. Pursuant to § 679.21(b)(1), the annual BSAI halibut PSC limits total 3,515 mt. Section 679.21(b)(1) allocates 315 mt of the halibut PSC limit as the PSQ reserve for use by the groundfish CDQ Program, 1,745 mt of the halibut PSC limit for the Amendment 80 sector, 745 mt of the halibut PSC limit for the BSAI trawl limited access sector, and 710 mt of the halibut PSC limit for the BSAI non-trawl sector.

Section 679.21(b)(1)(iii)(A) and (B) authorize apportionment of the BSAI non-trawl halibut PSC limit into PSC allowances among six fishery categories, and § 679.21(b)(1)(ii)(A) and (B), (e)(3)(i)(B), and (e)(3)(iv) require apportionment of the BSAI trawl limited access sector's halibut and crab PSC limits into PSC allowances among seven fishery categories. Table 10 lists the proposed fishery PSC allowances for the BSAI trawl limited access sector fisheries, and Table 11 lists the proposed fishery PSC allowances for the non-trawl fisheries.

Pursuant to Section 3.6 of the FMP, the Council recommends, and NMFS proposes, that certain specified non-trawl fisheries be exempt from the halibut PSC limit. As in past years, after consultation with the Council, NMFS proposes to exempt the pot gear fishery, the jig gear fishery, and the sablefish IFQ hook-and-line gear fishery categories from halibut bycatch restrictions for the following reasons: (1) The pot gear fisheries have low halibut bycatch mortality; (2) NMFS estimates halibut mortality for the jig gear fleet to be negligible because of the small size of the fishery and the selectivity of the gear; and (3) the sablefish and halibut IFQ fisheries have low halibut bycatch mortality because the IFQ Program requires legal-size halibut to be retained by vessels using hook-and-line gear if a halibut IFQ permit holder or a hired master is aboard and is holding unused halibut IFQ for that vessel category and the IFQ regulatory area in which the vessel is operating (§ 679.7(f)(11)).

As of November 2019, total groundfish catch for the pot gear fishery in the BSAI was 45,567 mt, with an associated halibut bycatch mortality of 3.7 mt. The 2019 jig gear fishery harvested about 190 mt of groundfish. Most vessels in the jig gear fleet are exempt from observer coverage requirements. As a result, observer data are not available on halibut bycatch in the jig gear fishery. As mentioned above, NMFS estimates a negligible amount of halibut bycatch mortality because of the selective nature of jig gear and the low mortality rate of halibut caught with jig gear and released.

Under § 679.21(f)(2), NMFS annually allocates portions of either 33,318, 45,000, 47,591, or 60,000 Chinook salmon PSC limits among the AFA sectors, depending on past bycatch performance, on whether Chinook salmon bycatch incentive plan agreements (IPAs) are formed, and on whether NMFS determines it is a low Chinook salmon abundance year. NMFS will determine that it is a low Chinook salmon abundance year when abundance of Chinook salmon in western Alaska is less than or equal to 250,000 Chinook salmon. The State provides to NMFS an estimate of Chinook salmon abundance using the 3-System Index for western Alaska, based on the Kuskokwim, Unalakleet, and Upper Yukon aggregate stock grouping.

If an AFA sector participates in an approved IPA and has not exceeded its performance standard under § 679.21(f)(6), and if it is not a low Chinook salmon abundance year, then NMFS will allocate a portion of the 60,000 Chinook salmon PSC limit to that sector as specified in § 679.21(f)(3)(iii)(A). If no IPA is approved, or if the sector has exceeded its performance standard under § 679.21(f)(6), and if it is not a low abundance year, then NMFS will allocate a portion of the 47,591 Chinook salmon PSC limit to that sector as specified in § 679.21(f)(3)(iii)(C). If an AFA sector participates in an approved IPA and has not exceeded its performance standard under § 679.21(f)(6) in a low abundance year, then NMFS will allocate a portion of the 45,000 Chinook salmon PSC limit to that sector as specified in § 679.21(f)(3)(iii)(B). If no IPA is approved, or if the sector has exceeded its performance standard under § 679.21(f)(6), and if in a low abundance year, then NMFS will allocate a portion of the 33,318 Chinook salmon PSC limit to that sector as specified in § 679.21(f)(3)(iii)(D).

As of October 1, 2019, NMFS has determined that 2019 was not a low Chinook salmon abundance year, based on the State's estimate that Chinook salmon abundance in western Alaska is greater than 250,000 Chinook salmon. Therefore, in 2020, the Chinook salmon PSC limit is 60,000 Chinook salmon, allocated to each sector as specified in § 679.21(f)(3)(iii)(A). The AFA sector Chinook salmon allocations are also seasonally apportioned with 70 percent of the allocation for the A season pollock fishery, and 30 percent of the allocation for the B season pollock fishery (§§ 679.21(f)(3)(i) and 679.23(e)(2)). In 2020, the Chinook salmon bycatch performance standard under § 679.21(f)(6) is 47,591 Chinook salmon, allocated to each sector as specified in § 679.21(f)(3)(iii)(C).

NMFS publishes the approved IPAs, allocations, and reports at https://www.fisheries.noaa.gov/alaska/sustainable-fisheries/sustainable-fisheries-alaska.

Section 679.21(g)(2)(i) specifies 700 fish as the 2020 and 2021 Chinook salmon PSC limit for the AI pollock fishery. Section 679.21(g)(2)(ii) allocates 7.5 percent, or 53 Chinook salmon, as the AI PSQ reserve for the CDQ Program, and allocates the remaining 647 Chinook salmon to the non-CDQ fisheries.

Section 679.21(f)(14)(i) specifies 42,000 fish as the 2020 and 2021 non-Chinook salmon PSC limit for vessels using trawl gear from August 15 through October 14 in the Catcher Vessel Operational Area (CVOA). Section 679.21(f)(14)(ii) allocates 10.7 percent, or 4,494 non-Chinook salmon, in the CVOA as the PSQ reserve for the CDQ Program, and allocates the remaining 37,506 non-Chinook salmon in the CVOA to the non-CDQ fisheries.

PSC limits for crab and herring are specified annually based on abundance and spawning biomass. Due to the lack of new information as of October 2019 regarding herring PSC limits and apportionments, the Council recommended, and NMFS proposes, basing the herring 2020 and 2021 PSC limits and apportionments on the 2018 survey data. The Council will reconsider these amounts in December 2019. Section 679.21(e)(3)(i)(A)(1) allocates 10.7 percent of each trawl gear PSC limit specified for crab as a PSQ reserve for use by the groundfish CDQ Program.

Based on 2019 survey data, the red king crab mature female abundance is estimated at 10.613 million red king crabs, and the effective spawning biomass is estimated at 28.009 million lbs (12,705 mt). Based on the criteria set out at § 679.21(e)(1)(i), the proposed 2020 and 2021 PSC limit of red king crab in Zone 1 for trawl gear is 97,000 animals. This limit derives from the mature female abundance estimate of more than 8.4 million red king crab and the effective spawning biomass estimate of more than 14.5 million lbs (6,577 mt) but less than 55 million lbs (24,948 mt).

Section 679.21(e)(3)(ii)(B)(2) establishes criteria under which NMFS must specify an annual red king crab bycatch limit for the Red King Crab Savings Subarea (RKCSS) if the State has established a GHL fishery for red king crab in the Bristol Bay area in the previous year. The regulations limit the bycatch in the RKCSS to up to 25 percent of the red king crab PSC allowance, based on the need to optimize the groundfish harvest relative to red king crab bycatch. NMFS proposes the Council's recommendation that the red king crab bycatch limit for 2020 and 2021 be equal to 25 percent of the red king crab PSC allowance within the RKCSS (Table 9).

Based on 2019 survey data, Tanner crab (Chionoecetes bairdi) abundance is estimated at 2,574 million animals. Pursuant to criteria set out at § 679.21(e)(1)(ii), the calculated 2020 and 2021 C. bairdi crab PSC limit for trawl gear is 980,000 animals in Zone 1, and 2,970,000 animals in Zone 2. The limit in Zone 1 is based on the abundance of C. bairdi (estimated at 2,574 million animals), which is greater than 400 million animals. The limit in Zone 2 is based on the abundance of C. bairdi (estimated at 2,574 million animals), which is greater than 400 million animals.

Pursuant to § 679.21(e)(1)(iii), the PSC limit for trawl gear for snow crab (C. opilio) is based on total abundance as indicated by the NMFS annual bottom trawl survey. The C. opilio crab PSC limit in the C. opilio bycatch limitation zone (COBLZ) is set at 0.1133 percent of the Bering Sea abundance index minus 150,000 crabs. Based on the 2019 survey estimate of 7.706 billion animals, the calculated C. opilio crab PSC limit is 8,580,898 animals, which is above the minimum PSC limit of 4.5 million and below the maximum PSC limit of 13 million animals.

Pursuant to § 679.21(e)(1)(v), the PSC limit of Pacific herring caught while conducting any trawl operation for BSAI groundfish is 1 percent of the annual eastern Bering Sea herring biomass. The best estimate of 2020 and 2021 herring biomass is 254,709 mt. This amount was developed by the Alaska Department of Fish and Game based on biomass for spawning aggregations. Therefore, the herring PSC limit proposed for 2020 and 2021 is 2,547 mt for all trawl gear as listed in Tables 8 and 9.

Section 679.21(e)(3)(i)(A) requires that PSQ reserves be subtracted from the total trawl PSC limits. The 2020 crab and halibut PSC limits assigned to the Amendment 80 and BSAI trawl limited access sectors are listed in Table 35 to 50 CFR part 679. The resulting proposed allocations of PSC limits to CDQ PSQ, the Amendment 80 sector, and the BSAI trawl limited access sector are listed in Table 8. Pursuant to §§ 679.21(b)(1)(i), 679.21(e)(3)(vi), and 679.91(d) through (f), crab and halibut trawl PSC limits assigned to the Amendment 80 sector are then further allocated to Amendment 80 cooperatives as cooperative quota. Crab and halibut PSC cooperative quota assigned to Amendment 80 cooperatives is not allocated to specific fishery categories.

One Amendment 80 cooperative has formed for the 2020 fishing year. Because all Amendment 80 vessels are part of the cooperative, no PSC limit allocation to the Amendment 80 limited access sector is required for 2020. The 2021 PSC limit allocations between Amendment 80 cooperatives and the Amendment 80 limited access sector will not be known until eligible participants apply for participation in the program by November 1, 2020. NMFS will post 2021 Amendment 80 cooperatives and Amendment 80 limited access allocations on the Alaska Region website at https://www.fisheries.noaa.gov/alaska/sustainable-fisheries/sustainable-fisheries-alaska prior to the start of the fishing year on January 1, 2021, based on the harvest specifications effective on that date.

Section 679.21(b)(2) and (e)(5) authorize NMFS, after consulting with the Council, to establish seasonal apportionments of halibut and crab PSC amounts for the BSAI non-trawl, BSAI trawl limited access, and Amendment 80 limited access sectors to maximize the ability of the fleet to harvest the available groundfish TAC and to minimize bycatch. The factors considered are (1) seasonal distribution of prohibited species, (2) seasonal distribution of target groundfish species relative to prohibited species distribution, (3) prohibited species bycatch needs on a seasonal basis relevant to prohibited species biomass and expected catches of target groundfish species, (4) expected variations in bycatch rates throughout the year, (5) expected changes in directed groundfish fishing seasons, (6) expected start of fishing effort, and (7) economic effects of establishing seasonal prohibited species apportionments on segments of the target groundfish industry. Based on this criteria, the Council recommended, and NMFS proposes, the seasonal PSC apportionments in Tables 10 and 11 to maximize harvest among gear types, fisheries, and seasons, while minimizing bycatch of PSC.

Table 8—Proposed 2020 and 2021 Apportionment of Prohibited Species Catch Allowances to Non-Trawl Gear, the CDQ Program, Amendment 80, and the BSAI Trawl Limited Access Sectors
PSC species and area ¹ | Total PSC | Non-trawl PSC | CDQ PSQ reserve ² | Trawl PSC remaining after CDQ PSQ | Amendment 80 sector ³ | BSAI trawl limited access sector
Halibut mortality (mt) BSAI | 3,515 | 710 | 315 | n/a | 1,745 | 745
Herring (mt) BSAI | 2,547 | n/a | n/a | n/a | n/a | n/a
Red king crab (animals) Zone 1 | 97,000 | n/a | 10,379 | 86,621 | 43,293 | 26,489
C. opilio (animals) COBLZ | 8,580,898 | n/a | 918,156 | 7,662,742 | 3,766,238 | 2,462,805
C. bairdi crab (animals) Zone 1 | 980,000 | n/a | 104,860 | 875,140 | 368,521 | 411,228
C. bairdi crab (animals) Zone 2 | 2,970,000 | n/a | 317,790 | 2,652,210 | 627,778 | 1,241,500
¹ Refer to § 679.2 for definitions of areas and zones.
² The PSQ reserve for crab species is 10.7 percent of each crab PSC limit.
³ The Amendment 80 program reduced apportionment of the trawl PSC limits for crab below the total PSC limit. These reductions are not apportioned to other gear types or sectors.

Table 9—Proposed 2020 and 2021 Herring and Red King Crab Savings Subarea Prohibited Species Catch Allowances for All Trawl Sectors
Fishery categories | Herring (mt) BSAI | Red king crab (animals) Zone 1
Yellowfin sole | 111 | n/a
Rock sole/flathead sole/other flatfish ¹ | 54 | n/a
Greenland turbot/arrowtooth flounder/Kamchatka flounder/sablefish | 7 | n/a
Rockfish | 7 | n/a
Pacific cod | 13 | n/a
Midwater trawl pollock | 2,313 | n/a
Pollock/Atka mackerel/other species 2 3 | 42 | n/a
Red king crab savings subarea non-pelagic trawl gear ⁴ | n/a | 24,250
Total trawl PSC | 2,547 | 97,000
¹ “Other flatfish” for PSC monitoring includes all flatfish species, except for halibut (a prohibited species), Alaska plaice, arrowtooth flounder, flathead sole, Greenland turbot, Kamchatka flounder, rock sole, and yellowfin sole.
² Pollock other than midwater trawl pollock, Atka mackerel, and “other species” fishery category.
³ “Other species” for PSC monitoring includes skates, sculpins, sharks, and octopuses.
⁴ In October 2019, the Council recommended that the red king crab bycatch limit for non-pelagic trawl fisheries within the RKCSS be limited to 25 percent of the red king crab PSC allowance (see § 679.21(e)(3)(ii)(B)(2)).
Note: Species allowances may not total precisely due to rounding.

Table 10—Proposed 2020 and 2021 Prohibited Species Bycatch Allowances for the BSAI Trawl Limited Access Sector
BSAI trawl limited access sector fisheries | Prohibited species and area ¹: Halibut mortality (mt) BSAI | Prohibited species and area ¹: Red king crab (animals) Zone 1 | Prohibited species and area ¹: C. opilio (animals) COBLZ | Prohibited species and area ¹: C. bairdi (animals): Zone 1 | Prohibited species and area ¹: C. bairdi (animals): Zone 2
Yellowfin sole | 150 | 23,338 | 2,321,656 | 346,228 | 1,185,500
Rock sole/flathead sole/other flatfish ² |  |  |  |  |
Greenland turbot/arrowtooth flounder/Kamchatka flounder/sablefish |  |  |  |  |
Rockfish April 15-December 31 | 4 |  | 3,835 |  | 1,000
Pacific cod | 391 | 2,954 | 98,959 | 60,000 | 49,999
Pollock/Atka mackerel/other species ³ | 200 | 197 | 38,356 | 5,000 | 5,000
Total BSAI trawl limited access sector PSC | 745 | 26,489 | 2,462,805 | 411,228 | 1,241,500
¹ Refer to § 679.2 for definitions of areas and zones.
² “Other flatfish” for PSC monitoring includes all flatfish species, except for halibut (a prohibited species), Alaska plaice, arrowtooth flounder, flathead sole, Greenland turbot, Kamchatka flounder, rock sole, and yellowfin sole.
³ “Other species” for PSC monitoring includes skates, sculpins, sharks, and octopuses.
Note: Species allowances may not total precisely due to rounding.

Table 11—Proposed 2020 and 2021 Halibut Prohibited Species Bycatch Allowances for Non-Trawl Fisheries
Non-trawl fisheries | Halibut mortality (mt) BSAI: Seasons | Halibut mortality (mt) BSAI: Catcher/ processor | Halibut mortality (mt) BSAI: Catcher vessel | Halibut mortality (mt) BSAI: All non-trawl
Pacific cod | Annual Pacific cod | 648 | 13 | n/a
| January 1-June 10 | 388 | 9 | n/a
| June 10-August 15 | 162 | 2 | n/a
| August 15-December 31 | 98 | 2 | n/a
Non-Pacific cod non-trawl-Total | May 1-December 31 | n/a | n/a | 49
Groundfish pot and jig | n/a | n/a | n/a | Exempt
Sablefish hook-and-line | n/a | n/a | n/a | Exempt
Total for all non-trawl PSC | n/a | n/a | n/a | 710

Halibut Discard Mortality Rates

To monitor halibut bycatch mortality allowances and apportionments, the Regional Administrator uses observed halibut incidental catch rates, halibut discard mortality rates (DMRs), and estimates of groundfish catch to project when a fishery's halibut bycatch mortality allowance or seasonal apportionment is reached. Halibut incidental catch rates are based on observers' estimates of halibut incidental catch in the groundfish fishery. DMRs are estimates of the proportion of incidentally caught halibut that do not survive after being returned to the sea. The cumulative halibut mortality that accrues to a particular halibut PSC limit is the product of a DMR multiplied by the estimated halibut PSC. DMRs are estimated using the best scientific information available in conjunction with the annual BSAI stock assessment process. The DMR methodology and findings are included as an appendix to the annual BSAI groundfish SAFE report.

In 2016, the DMR estimation methodology underwent revisions per the Council's directive. An interagency halibut working group (International Pacific Halibut Commission, Council, and NMFS staff) developed improved estimation methods that have undergone review by the Plan Team, SSC, and the Council. A summary of the revised methodology is included in the BSAI proposed 2017 and 2018 harvest specifications (81 FR 87863; December 6, 2016), and the comprehensive discussion of the working group's statistical methodology is available from the Council (see ADDRESSES). The DMR working group's revised methodology is intended to improve estimation accuracy, transparency, and transferability in the methodology used for calculating DMRs. The working group will continue to consider improvements to the methodology used to calculate halibut mortality, including potential changes to the reference period (the period of data used for calculating the DMRs). Future DMRs may change based on additional years of observer sampling, which could provide more recent and accurate data and which could improve the accuracy of estimation and progress on methodology. The methodology will continue to ensure that NMFS is using DMRs that more accurately reflect halibut mortality, which will inform the different sectors of their estimated halibut mortality and allow specific sectors to respond with methods that could reduce mortality and, eventually, the DMR for that sector.

In October 2019, the Council recommended adopting the halibut DMRs derived from the revised methodology for the proposed 2020 and 2021 DMRs. The proposed 2020 and 2021 DMRs use an updated 2-year reference period of 2017 and 2018. Comparing the proposed 2020 and 2021 DMRs to the final DMRs from the 2019 and 2020 harvest specifications, the proposed DMR for C/Ps and motherships using non-pelagic trawl gear decreased to 75 percent from 78 percent, the proposed DMR for C/Vs using non-pelagic trawl gear decreased to 58 percent from 59 percent, the proposed DMR for C/Ps using hook-and-line gear increased to 9 percent from 8 percent, the proposed DMR for CVs using hook-and-line gear increased to 9 percent from 4 percent, and the proposed DMR for C/Ps and CVs using pot gear increased to 27 percent from 19 percent. Table 12 lists the proposed 2020 and 2021 DMRs.

Table 12—Proposed 2020 and 2021 Pacific Halibut Discard Mortality Rates (DMR) for the BSAI
Gear | Sector | Halibut discard mortality rate (percent)
Pelagic trawl | All | 100
Non-pelagic trawl | Catcher/processor and motherships | 75
Non-pelagic trawl | Catcher vessel | 58
Hook-and-line | Catcher/processor | 9
Hook-and-line | Catcher vessel | 9
Pot | All | 27

Listed AFA C/P Sideboard Limits

Pursuant to § 679.64(a), the Regional Administrator is responsible for restricting the ability of listed AFA C/Ps to engage in directed fishing for groundfish species other than pollock to protect participants in other groundfish fisheries from adverse effects resulting from the AFA fishery and from fishery cooperatives in the directed pollock fishery. These restrictions are set out as sideboard limits on catch. On February 8, 2019, NMFS published a final rule (84 FR 2723) that implemented regulations to prohibit non-exempt AFA C/Ps from directed fishing for groundfish species or species groups subject to sideboard limits (see § 679.20(d)(1)(iv)(D) and Table 54 to 50 CFR part 679). Section 679.64(a)(1)(v) exempts AFA C/Ps from a yellowfin sole sideboard limit because the proposed 2020 and 2021 aggregate ITAC of yellowfin sole assigned to the Amendment 80 sector and BSAI trawl limited access sector is greater than 125,000 mt.

Section 679.64(a)(2) and Tables 40 and 41 to 50 CFR part 679 establish a formula for calculating PSC sideboard limits for halibut and crab caught by listed AFA C/Ps. The basis for these sideboard limits is described in detail in the final rules implementing the major provisions of the AFA (67 FR 79692; December 30, 2002) and Amendment 80 (72 FR 52668; September 14, 2007). PSC species listed in Table 13 that are caught by listed AFA C/Ps participating in any groundfish fishery other than pollock will accrue against the proposed 2020 and 2021 PSC sideboard limits for the listed AFA C/Ps. Section 679.21(b)(4)(iii), (e)(3)(v), and (e)(7) authorize NMFS to close directed fishing for groundfish other than pollock for listed AFA C/Ps once a proposed 2020 or 2021 PSC sideboard limit listed in Table 13 is reached. Pursuant to § 679.21(b)(1)(ii)(C) and (e)(3)(ii)(C), halibut or crab PSC by listed AFA C/Ps while fishing for pollock will accrue against the PSC allowances annually specified for the pollock/Atka mackerel/“other species” fishery categories, according to §§ 679.21(b)(1)(ii)(B) and (e)(3)(iv).

Table 13—Proposed 2020 and 2021 BSAI American Fisheries Act Listed Catcher/Processor Prohibited Species Sideboard Limits
PSC species and area ¹ | Ratio of PSC to total PSC | Proposed 2020 and 2021 PSC available to trawl vessels after subtraction of PSQ ² | Proposed 2020 and 2021 C/P sideboard limit ²
BSAI Halibut mortality | n/a | n/a | 286
Red king crab Zone 1 | 0.007 | 86,621 | 606
C. opilio (COBLZ) | 0.153 | 7,662,742 | 1,172,400
C. bairdi Zone 1 | 0.140 | 875,140 | 122,520
C. bairdi Zone 2 | 0.050 | 2,652,210 | 132,611
¹ Refer to § 679.2 for definitions of areas.
² Halibut amounts are in metric tons of halibut mortality. Crab amounts are in numbers of animals.

AFA CV Sideboard Limits

Pursuant to § 679.64(b), the Regional Administrator is responsible for restricting the ability of AFA CVs to engage in directed fishing for groundfish species other than pollock to protect participants in other groundfish fisheries from adverse effects resulting from the AFA and from fishery cooperatives in the pollock directed fishery. On February 8, 2019, NMFS published a final rule (84 FR 2723) that implemented regulations to prohibit non-exempt AFA C/Vs from directed fishing for a majority of the groundfish species or species groups subject to sideboard limits (see § 679.20(d)(1)(iv)(D) and Table 55 to 50 CFR part 679). The remainder of the sideboard limits for non-exempt AFA C/Vs are proposed in Table 14.

Section 679.64(b)(3) and (b)(4) establish formulas for setting AFA CV groundfish and halibut and crab PSC sideboard limits for the BSAI. The basis for these sideboard limits is described in detail in the final rules implementing the major provisions of the AFA (67 FR 79692; December 30, 2002) and Amendment 80 (72 FR 52668; September 14, 2007). Section 679.64(b)(6) exempts AFA CVs from a yellowfin sole sideboard limit because the proposed 2020 and 2021 aggregate ITAC of yellowfin sole assigned to the Amendment 80 sector and BSAI trawl limited access sector is greater than 125,000 mt. Table 14 lists the proposed 2020 and 2021 AFA CV sideboard limits.

Table 14—Proposed 2020 and 2021 BSAI Pacific Cod Sideboard Limits for American Fisheries Act Catcher Vessels (CVs)
[Amounts are in metric tons]
Fishery by area/gear/season | Ratio of 1995-1997 AFA CV catch to 1995-1997 TAC | 2020 and 2021 initial TAC | 2020 and 2021 AFA catcher vessel sideboard limits
BSAI | n/a | n/a | n/a
Trawl gear CV: | n/a | n/a | n/a
Jan 20-Apr 1 | 0.8609 | 20,156 | 17,352
Apr 1-Jun 10 | 0.8609 | 2,996 | 2,579
Jun 10-Nov 1 | 0.8609 | 4,086 | 3,518
Note: Section 679.64(b)(6) exempts AFA catcher vessels from a yellowfin sole sideboard limit because the 2020 and 2021 aggregate ITAC of yellowfin sole assigned to the Amendment 80 sector and BSAI trawl limited access sector is greater than 125,000 mt.

Halibut and crab PSC limits listed in Table 15 that are caught by AFA CVs participating in any groundfish fishery other than pollock will accrue against the 2020 and 2021 PSC sideboard limits for the AFA CVs. Section 679.21(b)(4)(iii), (e)(3)(v), and (e)(7) authorize NMFS to close directed fishing for groundfish other than pollock for AFA CVs once a proposed 2020 and 2021 PSC sideboard limit listed in Table 15 is reached. Pursuant to § 679.21(b)(1)(ii)(C) and (e)(3)(ii)(C), halibut or crab PSC by AFA CVs while fishing for pollock in the BS will accrue against the PSC allowances annually specified for the pollock/Atka mackerel/“other species” fishery categories under § 679.21(b)(1)(ii)(B) and (e)(3)(iv).

Table 15—Proposed 2020 and 2021 American Fisheries Act Catcher Vessel Prohibited Species Catch Sideboard Limits for the BSAI ¹
PSC species and area ¹ | Target fishery category ² | AFA catcher vessel PSC sideboard limit ratio | Proposed 2020 and 2021 PSC limit after subtraction of PSQ reserves ³ | Proposed 2020 and 2021 AFA catcher vessel PSC sideboard limit ³
Halibut | Pacific cod trawl | n/a | n/a | 887
| Pacific cod hook-and-line or pot | n/a | n/a | 2
| Yellowfin sole total | n/a | n/a | 101
| Rock sole/flathead sole/other flatfish ⁴ | n/a | n/a | 228
| Greenland turbot/arrowtooth flounder/Kamchatka flounder/sablefish | n/a | n/a |
| Rockfish | n/a | n/a | 2
| Pollock/Atka mackerel/other species ⁵ | n/a | n/a | 5
Red king crab Zone 1 | n/a | 0.2990 | 86,621 | 25,900
C. opilio COBLZ | n/a | 0.1680 | 7,662,742 | 1,287,341
C. bairdi Zone 1 | n/a | 0.3300 | 875,140 | 288,796
C. bairdi Zone 2 | n/a | 0.1860 | 2,652,210 | 493,311
¹ Refer to § 679.2 for definitions of areas.
² Target fishery categories are defined at § 679.21(b)(1)(ii)(B) and (e)(3)(iv).
³ Halibut amounts are in metric tons of halibut mortality. Crab amounts are in numbers of animals.
⁴ “Other flatfish” for PSC monitoring includes all flatfish species, except for halibut (a prohibited species), Alaska plaice, arrowtooth flounder, Kamchatka flounder, flathead sole, Greenland turbot, rock sole, and yellowfin sole.
⁵ “Other species” for PSC monitoring includes skates, sculpins, sharks, and octopuses.

Classification

NMFS has determined that the proposed harvest specifications are consistent with the FMP and preliminarily determined that the proposed harvest specifications are consistent with the Magnuson-Stevens Act and other applicable laws, subject to further review after public comment.

This action is authorized under 50 CFR 679.20 and is exempt from review under Executive Order 12866. This proposed rule is not an Executive Order 13771 regulatory action because this rule is not significant under Executive Order 12866.

NMFS prepared an EIS for the Alaska groundfish harvest specifications and alternative harvest strategies and made it available to the public on January 12, 2007 (72 FR 1512). On February 13, 2007, NMFS issued the ROD for the Final EIS. A SIR that assesses the need to prepare a Supplemental EIS is being prepared for the final 2020 and 2021 harvest specifications. Copies of the Final EIS, ROD, and annual SIRs for this action are available from NMFS (see ADDRESSES). The Final EIS analyzes the environmental, social, and economic consequences of the proposed groundfish harvest specifications and alternative harvest strategies on resources in the action area. Based on the analysis in the Final EIS, NMFS concluded that the preferred alternative (Alternative 2) provides the best balance among relevant environmental, social, and economic considerations and allows for continued management of the groundfish fisheries based on the most recent, best scientific information.

NMFS prepared an IRFA, as required by section 603 of the Regulatory Flexibility Act (RFA) (5 U.S.C. 603), analyzing the methodology for establishing the relevant TACs. The IRFA evaluated the economic impacts on small entities of alternative harvest strategies for the groundfish fisheries in the exclusive economic zone off Alaska. As described in the methodology, TACs are set to a level that falls within the range of ABCs recommended by the SSC; the sum of the TACs must achieve the OY specified in the FMP. While the specific numbers that the methodology produces may vary from year to year, the methodology itself remains constant.

A description of the proposed action, why it is being considered, and the legal basis for this proposed action are contained in the preamble above. A copy of the IRFA is available from NMFS (see ADDRESSES). A summary of the IRFA follows.

The action under consideration is a harvest strategy to govern the catch of groundfish in the BSAI. The preferred alternative (Alternative 2) is the existing harvest strategy in which TACs fall within the range of ABCs recommended by the SSC, but, as discussed below, NMFS also considered other alternatives. This action is taken in accordance with the FMP prepared by the Council pursuant to the Magnuson-Stevens Act.

The entities directly regulated by this action are those that harvest groundfish in the exclusive economic zone of the BSAI and in parallel fisheries within State waters. These include entities operating CVs and C/Ps within the action area and entities receiving direct allocations of groundfish.

For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual gross receipts not in excess of $11 million for all its affiliated operations worldwide. In addition, under the RFA, the aggregate gross receipts of all participating members of a cooperative must meet the “under $11 million” threshold to be considered a small entity.

The IRFA shows that, in 2018, the estimated number of directly regulated small entities include approximately 182 CVs, 3 C/Ps, and six CDQ groups. Some of these vessels are members of AFA inshore pollock cooperatives, Gulf of Alaska rockfish cooperatives, or BSAI Crab Rationalization Program cooperatives, which are considered to be large entities within the meaning of the RFA because the aggregate gross receipts of all participating members exceed the $11 million threshold. Thus, the estimate of 182 CVs may be an overstatement of the number of small entities. Average gross revenues were $520,000 for small hook-and-line vessels, $1.2 million for small pot vessels, and $2.6 million for small trawl vessels. The average gross revenue for C/Ps are not reported, due to confidentiality considerations.

The preferred alternative (Alternative 2) was compared to four other alternatives. Alternative 1 would have set TACs to generate fishing rates equal to the maximum permissible ABC (if the full TAC were harvested), unless the sum of TACs exceeded the BSAI OY, in which case TACs would have been limited to the OY. Alternative 3 would have set TACs to produce fishing rates equal to the most recent 5-year average fishing rates. Alternative 4 would have set TACs equal to the lower limit of the BSAI OY range. Alternative 5, the “no action” alternative, would have set TACs equal to zero.

The TACs associated with Alternative 2, the preferred harvest strategy, are those recommended by the Council in October 2019. OFLs and ABCs for the species were based on recommendations prepared by the Council's BSAI Groundfish Plan Team in September 2019, and reviewed and modified by the Council's SSC in October 2019. The Council based its TAC recommendations on those of its AP, which were consistent with the SSC's OFL and ABC recommendations.

Alternative 1 selects harvest rates that would allow fishermen to harvest stocks at the level of ABCs, unless total harvests were constrained by the upper bound of the BSAI OY of two million mt. As shown in Table 1 of the preamble, the sum of ABCs in 2020 and 2021 would be 2,967,269 mt, which is above the upper bound of the OY range. Under Alternative 1, the sum of TACs is equal to the sum of ABCs. In this instance, Alternative 1 is consistent with the preferred alternative (Alternative 2), meets the objectives of that action, and has small entity impacts that are equivalent to small entity impacts of the preferred alternative. However, NMFS cannot set TACs equal to the sum of ABCs in the BSAI due to the constraining OY limit of two million mt, which Alternative 1 would exceed.

Alternative 3 selects harvest rates based on the most recent 5 years of harvest rates (for species in Tiers 1 through 3) or based on the most recent 5 years of harvests (for species in Tiers 4 through 6). This alternative is inconsistent with the objectives of this action (as reflected in Alternative 2, the Council's preferred harvest strategy) because it does not take account of the most recent biological information for this fishery, as required by the Magnuson-Stevens Act. NMFS annually conducts at-sea stock surveys for different species, as well as statistical modeling, to estimate stock sizes and permissible harvest levels. Actual harvest rates or harvest amounts are a component of these estimates, but in and of themselves harvest rates or harvest amounts may not accurately portray stock sizes and conditions. Harvest rates are listed for each species and species group for each year in the SAFE report (see ADDRESSES).

Alternative 4 would lead to significantly lower harvests of all groundfish species and would reduce TACs from the upper end of the OY range in the BSAI to its lower end of 1.4 million mt. Overall, this would reduce 2020 TACs by about 30 percent, which would lead to significant reductions in harvests of species harvested by small entities. While reductions of this size would alter the supply, and, therefore, would be associated with offsetting price increases, the size of these associated price increases is uncertain. While production declines in the BSAI would undoubtedly be associated with price increases in the BSAI, these increases still would be constrained by production of substitutes, and are unlikely to completely offset revenue declines resulting from reductions in harvests of these species by small entities. Thus, this alternative would have a detrimental impact on small entities.

Alternative 5, which sets all harvests equal to zero, would have a significant adverse impact on small entities and would be contrary to the requirement for achieving OY on a continuing basis, as mandated by the Magnuson-Stevens Act. Under Alternative 5, all individual CVs and C/Ps, as well as CDQ groups, impacted by this rule would have gross revenues of $0.

The proposed harvest specifications (Alternative 2) extend the current 2020 OFLs, ABCs, and TACs to 2020 and 2021, except for the decreases of the Pacific cod AI TAC to account for the State's AI Pacific cod GHL and a corresponding increase in BS pollock TAC to ensure that the sum of the proposed TACs is within the OY of up to 2 million mt. As noted in the IRFA and this preamble, the Council may modify its recommendations for final OFLs, ABCs, and TACs in December 2019, when it reviews the November 2019 SAFE report from its Plan Team, and the reports of the SSC and AP, at the 2019 December Council meeting. NMFS does not expect adverse impacts on small entities, because most of the TACs in these proposed 2020 and 2021 harvest specifications are unchanged from the 2020 harvest specification TACs in the final 2019 and 2020 harvest specifications (84 FR 9000; March 13, 2019), and because the sum of all TACs remains within the upper limit of OY for the BSAI of 2.0 million mt. Also, NMFS does not expect any changes that might be made by the Council in December 2019 to be large enough to have an impact on small entities.

This action does not modify recordkeeping or reporting requirements, or duplicate, overlap, or conflict with any Federal rules.

Adverse impacts on marine mammals or endangered or threatened species resulting from fishing activities conducted under these harvest specifications are discussed in the Final EIS and its accompanying annual SIRs (see ADDRESSES).

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: November 26, 2019.
Samuel D. Rauch III,
Deputy Assistant Administrator for Regulatory Programs, National Marine Fisheries Service.

[FR Doc. 2019-26090 Filed 12-2-19; 8:45 am]

BILLING CODE 3510-22-P